DEPARTMENT OF COMMERCE

International Trade Administration

[A-570-912]

Certain New Pneumatic Off-the-Road Tires From the People's Republic of China: Final Results of Antidumping Duty New Shipper Review; 2011-2012

AGENCY: Import Administration, International Trade Administration, Department of Commerce.

DATES: Effective Date: June 4, 2013.

SUMMARY: On March 5, 2013, the Department of Commerce (“Department”) published the preliminary results of an antidumping duty new shipper review of certain new pneumatic off-the-road tires (“OTR tires”) from the People's Republic of China (“PRC”).¹ We invited interested parties to comment on our preliminary results. Based on our analysis of the comments we received, we have made changes to our margin calculations for the new shipper, Trelleborg Wheel Systems (Xingtai) China, Co. Ltd. (“Trelleborg Wheel Systems China”). We continue to find that Trelleborg Wheel Systems China did not make a sale of subject merchandise at less than normal value.

¹ See Certain New Pneumatic Off-the-Road Tires from the People's Republic of China: Preliminary Results of Antidumping Duty New Shipper Review; 2011-2012, 78 FR 14267 (March 5, 2013) (“Preliminary Results”).

FOR FURTHER INFORMATION CONTACT: Raquel Silva or Eugene Degnan, AD/CVD Operations, Office 8, Import Administration, International Trade Administration, U.S. Department of Commerce, 14th Street and Constitution Avenue NW., Washington, DC 20230; telephone: (202) 482-6475 or (202) 482-0414, respectively.

SUPPLEMENTARY INFORMATION:

Case History

The Department published the Preliminary Results on March 5, 2013.² On March 14, 2013, the Department issued a supplemental questionnaire, in which we requested further information from Trelleborg Wheel Systems China.³ On March 22, 2013, Trelleborg Wheel Systems China submitted its response.⁴

² Also adopted as part of the Preliminary Results was the Memorandum to Paul Piquado entitled “Decision Memorandum for Preliminary Results of Antidumping Duty New Shipper Review Pertaining to Trelleborg Wheel Systems (Xingtai) China, Co. Ltd.: Certain New Pneumatic Off-the-Road Tires from the People's Republic of China,” dated February 26, 2013 (“Preliminary Decision Memorandum”).

³ See Letter from the Department entitled “Certain New Pneumatic Off-the-Road Tires from the People's Republic of China: New Shipper Review Post-Preliminary Results Supplemental Questionnaire,” dated March 14, 2013.

⁴ See Letter from Trelleborg Wheel Systems China entitled “Trelleborg Wheel Systems (Xingtai) China, Co. Ltd.'s Third Sales Supplemental Questionnaire Response for the New Shipper Review of New Pneumatic Off-The-Road Tires from the People's Republic of China,” dated March 22, 2013.

On March 14, 2013, Trelleborg Wheel Systems China submitted surrogate value (“SV”) information,⁵ and on March 25, 2013, Titan Tire Corporation (“Petitioner”) submitted its SV information.⁶ On April 4, 2013, Petitioner submitted a case brief,⁷ and on April 9, 2013, Trelleborg Wheel Systems China submitted a rebuttal brief.⁸

⁵ See Letter from Trelleborg Wheel Systems China entitled “Re-Submission of 2011 Goodyear Indonesia Financial Statements for Possible Use as Surrogate Value: New Pneumatic Off-The-Road Tires from the People's Republic of China,” dated March 14, 2013.

⁶ See Letter from Petitioner entitled “New Pneumatic Off-The Road Tires from the People's Republic of China (New Shipper Review): Petitioner's 20-Day SV Submission,” dated March 25, 2013.

⁷ See Letter from Petitioner entitled “Case Brief of Titan Tire Corporation, Petitioner,” dated April 4, 2013.

⁸ See Letter from Trelleborg Wheel Systems China entitled “Trelleborg Wheel Systems (Xingtai) China, Co. Ltd.'s Second Supplemental Section D Questionnaire Response for the New Shipper Review of New Pneumatic Off-The-Road Tires from the People's Republic of China,” dated April 9, 2013.

Period of Review

The period of review (“POR”) is September 1, 2011, through February 29, 2012. This POR corresponds to the six-month period immediately preceding the semiannual anniversary month pursuant to section 751(a)(2)(B)(ii) of the Tariff Act of 1930, as amended (“the Act”), and 19 CFR 351.214(g)(1)(i)(B).

Scope of the Order

The merchandise covered by this order includes new pneumatic tires designed for off-the-road and off-highway use, subject to certain exceptions.⁹ The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.¹⁰

⁹ For a complete description of the Scope of the Order, see Memorandum to Ronald K. Lorentzen entitled “Issues and Decision Memorandum for the Final Results in the Antidumping Duty New Shipper Review of Certain New Pneumatic Off-the-Road Tires from the People's Republic of China,” dated May 28, 2013 (“Issues and Decision Memorandum”).

¹⁰ See Certain New Pneumatic Off-the-Road Tires From the People's Republic of China: Notice of Amended Final Affirmative Determination of Sales at Less Than Fair Value and Antidumping Duty Order, 73 FR 51624 (September 4, 2008).

Analysis of Comments Received

All issues raised in the case and rebuttal briefs by parties to this review are addressed in the Issues and Decision Memorandum, which is hereby adopted by this notice. A list of the issues which parties raised and to which we respond in the Issues and Decision Memorandum is attached to this notice as an Appendix. The Issues and Decision Memorandum is a public document and is on file electronically via Import Administration's Antidumping and Countervailing Duty Centralized Electronic Service System (IA ACCESS). Access to IA ACCESS is available to registered users at http://iaaccess.trade.gov and in the Central Records Unit (CRU), Room 7046 of the main Department of Commerce building. In addition, a complete version of the Issues and Decision Memorandum can be accessed directly on the internet at http://www.trade.gov/ia/. The signed Issues and Decision Memorandum and the electronic versions of the Issues and Decision Memorandum are identical in content.

Changes Since the Preliminary Results

Based on a review of the record and comments received from interested parties regarding the Preliminary Results, we have made the following revisions to the margin calculations for Trelleborg Wheel Systems China: ¹¹

¹¹ For detailed information concerning all of the changes made, including those listed above, see Memorandum from the Department entitled “New Shipper Review of Antidumping Duty Order on Certain New Pneumatic Off-the-Road Tires from the People's Republic of China: Analysis of the Final Results Margin Calculation for Trelleborg Wheel Systems (Xingtai) China, Co. Ltd. (“TWS China”),” dated concurrently with this memorandum (“Final Results Analysis Memo”), and Memorandum from the Department entitled “New Shipper Review of Antidumping Duty Order on Certain New Pneumatic Off-the-Road Tires from the People's Republic of China: Surrogate Value Memorandum,” dated concurrently with this memorandum (“Final Results Surrogate Value Memo”).

• Revised the indirect selling expense ratio to include additional indirect selling expenses not substantiated to be unrelated to the sale of subject merchandise.¹²

¹² See Issues and Decision Memorandum at Comment 3; see also Final Results Analysis Memo at 2-3.

• Eliminated the facts available plugs used to calculate ocean freight expense for Trelleborg Wheel Systems China's raw materials purchased in market economies, and replaced them with the market-economy purchase prices inclusive of ocean freight, which were submitted by Trelleborg Wheel Systems China after the Preliminary Results. However, we note that due to a miscalculation in the prices submitted, the Department corrected these values for the final results.¹³

¹³ See Final Results Analysis Memo at 2-3.

• Adjusted the domestic inland truck freight distances for market economy purchases, per information Trelleborg Wheel Systems China submitted after the Preliminary Results.¹⁴

¹⁴ See id.

Final Results Margin

The Department finds that the following weighted-average dumping margin exists:

Exporter | Weighted- average dumping margin (percent)
Trelleborg Wheel Systems (Xingtai) China, Co. Ltd. | 0.0

Disclosure

We intend to disclose to parties the calculations performed in this proceeding within five days of the date of publication of this notice in accordance with 19 CFR 351.224(b).

Assessment

Upon issuance of the final results, the Department will determine, and U.S. Customs and Border Protection (“CBP”) shall assess, antidumping duties on all appropriate entries. The Department intends to issue assessment instructions to CBP 15 days after the date of publication of the final results of review. Where either the respondent's weighted-average dumping margin is zero or de minimis, or an importer-specific assessment rate is zero or de minimis, we will instruct CBP to liquidate the appropriate entries without regard to antidumping duties. The Department recently announced a refinement to its assessment practice in NME cases.¹⁵ Pursuant to this refinement in practice, for entries that were not reported in the U.S. sales databases submitted by the company individually examined during this review, the Department will instruct CBP to liquidate such entries at the NME-wide rate. In addition, if the Department determines that the exporter under review had no shipments of the subject merchandise, any suspended entries that entered under that exporter's case number (i.e., at that exporter's rate) will be liquidated at the NME-wide rate.¹⁶

¹⁵ See Non-Market Economy Antidumping Proceedings: Assessment of Antidumping Duties, 76 FR 65694 (October 24, 2011).

¹⁶ See id.

Cash Deposit Requirements

The following cash deposit requirements will be effective upon publication of the final results of this new shipper review for all shipments of the subject merchandise from Trelleborg Wheel Systems China entered, or withdrawn from warehouse, for consumption on or after the publication date, as provided for by section 751(a)(2)(C) of the Act: (1) For subject merchandise produced and exported by Trelleborg Wheel Systems China, the cash deposit rate will be 0.00 percent; (2) for subject merchandise exported by Trelleborg Wheel Systems China but not manufactured by Trelleborg Wheel Systems China, the cash deposit rate will be the PRC-wide rate of 210.48 percent ; and (3) for subject merchandise manufactured by Trelleborg Wheel Systems China, but exported by any other party, the cash deposit rate will be the rate applicable to the exporter. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Secretary's presumption that reimbursement of the antidumping duties occurred and the subsequent assessment of double antidumping duties.

Notification Regarding APO

This notice also serves as a reminder to the parties subject to administrative protective order (“APO”) of their responsibility concerning the disposition of BPI disclosed under APO in accordance with 19 CFR 351.305. Timely notification of return or destruction of APO materials or conversion to judicial protective order is hereby requested. Failure to comply with the regulations and terms of an APO is a sanctionable violation.

This determination is issued and published in accordance with sections 751(a)(2)(B) and 777(i) of the Act.

Dated: May 28, 2013.
Ronald K. Lorentzen,
Acting Assistant Secretary for Import Administration.

Appendix—Issues for Final Results

Issue 1: Whether to Rescind the Review for non- Bona Fide sale

Issue 2: Whether to change the surrogate country from Indonesia to Thailand

Issue 3: Whether to revise the indirect selling expense ratio

Issue 4: Whether to continue to deny scrap tire and steel wire offsets

[FR Doc. 2013-13215 Filed 6-3-13; 8:45 am]

BILLING CODE 3510-DS-P